LEGAL SERVICES CORPORATION

Sunshine Act Meetings

DATE AND TIME: The Legal Services Corporation's Board of Directors will meet telephonically on Monday, March 4, 2019. The meeting will commence at 12:30 p.m., EDT, and will continue until the conclusion of the Committee's agenda.

LOCATION: John N. Erlenborn Conference Room, Legal Services Corporation Headquarters, 3333 K Street NW, Washington, DC 20007.

PUBLIC OBSERVATION: None

STATUS OF MEETING: Closed.

MATTERS TO BE CONSIDERED:

Institutional Advancement Committee

1. Approval of agenda

2. 45th Anniversary update

• Nadia Elguindy, Director of Institutional Advancement

• Michael Smith, Special Assist to the President

3. Legal Navigator report

• Jim Sandman, President

4. Introduction to Emerging Leaders Council

• John G. Levi, Chairman of Board

• Kristen Sonday, Emerging Leaders Council Co-Chair

• Brad Robertson, Emerging Leaders Council Co-Chair

5. Fundraising training initiative

• Leo Latz, Latz & Company

6. Consider and act on motion to approve Leaders Council and Emerging Leaders Council invitees through a Notational Vote

7. Consider and act on other business

8. Consider and act on adjournment of meeting.

CONTACT PERSON FOR INFORMATION: Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: February 13, 2019.
Katherine Ward,
Executive Assistant to the Vice President for Legal Affairs and General Counsel.

[FR Doc. 2019-02836 Filed 2-14-19; 4:15 pm]

BILLING CODE 7050-01-P